DEPARTMENT OF HOUSING AND URBAN DEVELOPMENT

[Docket No. FR-4910-N-02]

Notice of Proposed Information Collection for Public Comment—Housing Choice Voucher Program Forms for Funding Application, Utility Allowances, Inspection, Financial, Tenancy Approval, Voucher, Family Portability, Housing Assistance Payments (HAP) Contracts

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 22, 2004.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4255, Washington, DC. 20410-5000.

FOR FURTHER INFORMATION CONTACT: Mildred M. Hamman, (202) 708-0614, extension 4128. (This is not a toll-free number). http://www.hudclips.org/sub_nonhud/html/forms.htm.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The housing choice voucher program forms are used by the Department to collect information from Public Housing Agencies (PHAs), and program participants as part of the Housing Choice Voucher Program process.

There are several forms used by the Department, each serve a different information collection purpose. The title, and purpose of each form is described in the section below.

This Notice also lists the following information:

Title of Proposal: Information Collection for the Housing Choice Voucher Program.

OMB Control Number: 2577-0169.

Description of the need for the information and proposed use: The requested information requirements (how, by whom, and for what purpose the information is to be used) for the voucher program consist of the following:

Funding Application, Form HUD-52515, is prepared by the PHA and specifies the number of units requested, as well as the PHA's objectives and plans for administering the voucher program. The application is reviewed by HUD and ranked according to the PHA's administrative capability, the need for housing assistance, and other factors specified in the Notice of Funding Availability. PHAs are required to prepare an Administrative Plan that states local PHA policy on matters for which the PHA has discretion to establish local policies. The PHA must discuss in these plan how it will operate the voucher program, e.g., organization of the waiting list, opening and closing of the waiting list, selection of families from the waiting list, terms of the voucher and occupancy policies.

Allowance for Tenant Furnished Utilities and Other Services, Form HUD-52667, the PHA must establish a utility allowance schedule for all utilities and other services. The utility allowance is used in determining the family's monthly housing assistance payment and rental payment or monthly homeownership assistance payment. The allowance is provided for those utilities paid by the family. The utility allowance schedule is determined based on the typical cost of utilities and services paid by energy-conservative households, which occupy housing of a similar size and type in the same locality. The PHA must submit its initial utility allowance schedule and supporting documentation to HUD in order for HUD to ensure that the costs are reasonable. Thereafter, the updated form is not sent to HUD.

Inspection Form, HUD-52580 and 52580-A, these inspection forms are used by the PHA to determine if a unit meets the housing quality standards (HQS) of the housing choice voucher program. The goal of the voucher program is to provide decent, safe, and sanitary housing to very low-income families. In keeping with that goal, the primary objective of the HQS is to protect the family receiving assistance under the program by guaranteeing a basic level of assisted housing. The units must pass inspection before housing assistance payments may be paid to owners and must be re-inspected at least once a year when an assisted family continues occupancy. Annual re-inspections are not required under the homeownership option. These forms are not sent to HUD.

Financial Forms, HUD 525663, 52671, 52673, 52681 and 52681-B, PHAs that administer the housing choice voucher program are required to maintain financial reports in accordance with accepted accounting standards in order to permit timely and effective audits. The financial records identify the amount of annual contributions that are received and disbursed by the PHA. The required financial statements are similar to those prepared by any responsible business or organization at the end of the fiscal year. The financial forms are used by PHAs to estimate their annual contributions requirements to: (a) Assure that project costs (e.g., housing assistance payments and PHA administrative expenses) do not exceed the amount of authorized contract authority; (b) requisition the advance of annual contributions; and (c) report actual receipts and expenditures. Below is an explanation of each financial form:

Supporting Data for Annual Contribution Estimates, Form HUD-52672, is used to estimate preliminary or initial costs, housing assistance payments, and PHA fees for ongoing administration of the program, and is submitted after HUD approval of the PHA's application for the voucher program.

Estimate of Total Required Annual Contributions, Form HUD-562673 is used to summarize the financial estimates contained on Form HUD-52672, and upon approval by HUD, Form HUD-52673 is the PHA operating budget for the PHA fiscal year.

Requisition for Partial Payment of Annual Contributions, Form HUD-52663, is used by the PHA to request payment of required annual contributions for the program. The form identifies the PHA's estimate of annual contributions to cover homeownership assistance payments, housing assistance payments to owners and the fee for preliminary and ongoing PHA administrative costs for the fiscal year and the amount of the advance to be paid by HUD for each month during the quarter.

Voucher for Payment of Annual Contribution and Operating Statement, Form HUD 52681, is used by HUD to approve actual PHA program expenses for the PHA fiscal year, and is the basis for reviewing PHA financial estimates for the subsequent fiscal year. This form is also used to make a year-end settlement of monthly advances provided by HUD during the PHA's fiscal year and actual PHA expenditures for the voucher program, and to monitor the financial status of PHAs.

Request for Tenancy Approval, Form HUD-52517, is completed and submitted by the family to the PHA when the family finds a unit that is suitable for its needs. The PHA reviews the request to determine if the owner is eligible to participate in the program, if the unit is eligible, and if the lease complies with the program and statutory requirements governing prohibited and required lease provisions. This form is not sent to HUD.

Voucher, Form HUD-52646, is the document that authorizes the family to look for an eligible unit. It specifies the appropriate unit size necessary to meet the family's needs. The voucher also sets forth the family's obligations under the housing choice voucher program. This form is not sent to HUD.

PHA Preparation of Information about the Tenant for the Owner, when the PHA is approving a new unit selected by the family, the PHA must advise the owner that the PHA has not screened the family and provide the name and address of previous landlords if such information is readily available. This information is not provided to HUD.

Family Portability Information, HUD-52665, this form standardizes the portability information submitted to the receiving PHA by the initial PHA. In addition, this form is used for monthly portability billing by the receiving PHA. After the payment amount is established, the form does not need to be resubmitted until the payment amount changes. This information is not provided to HUD.

Housing Assistance Payments (HAP) Contracts and Tenancy Addendums, the contract is a written agreement between the PhA and the owner of a unit or manufactured home space occupied by a voucher participant. The HAP contract must be executed before the PHA can make payment on behalf of an eligible family. The HAP contract consists of the three parts: Part A (Contract Information); Part B (Body of the Contract) and Part C (Tenancy Addendum). Separate tenancy addenda forms are provided to the landlord for attachment to the tenant's lease. The PHA must be provided a copy of any revisions to the lease agreed by the owner and the tenant. These forms are not sent to HUD. Below is an explanation of each contract form:

HAP Contract for Section 8 Tenant-Based Assistance Housing Choice Voucher Program, Form 52641, is used for all program participants except manufactured homeowners leasing the manufactured home space. This form is not sent to HUD.

HAP Contract for Manufactured Home Space Rental, Form 52642, is used for manufactured homeowners who lease the manufactured home space. This form is not sent to HUD.

Tenancy Addendum, form 52641A, this form must be attached to a copy the lease that is provided to the tenant by the landlord. If there is any conflict between the tenancy addendum and any other provisions of the lease, the language of the tenancy addendum shall control. This form is not sent to HUD.

Tenancy Addendum, Form 52642-A, is to be attached to a copy of the lease provided to the tenant by the landlord, for manufactured home space rental. If there is any conflict between the tenancy addendum and any other provisions of the lease, the language of the tenancy addendum shall control. This form is not sent to HUD.

Agency form numbers: HUD-52515, HUD-52667, HUD-52580 and HUD-52580-A, HUD-52663, HUD-52672, HUD-52673, HUD-52681, HUD-52681-B, HUD-52517, HUD-52646, HUD-52665, HUD-52641, HUD-52642, HUD-52641-A, HUD-52642-A

Estimation of the total number of hours needed to prepare the information collection including the number of respondents, frequency of response, and hours of response: 250,000 families + 100,000 tenant-based owners = 352,500 respondents, total annual responses 2,563,500, hours per response varies for each form, frequency, annually and on-occasion, total burden hours 775,750.

Status of the Proposed Information Collection: Revision.

Authority: Section 3506 of the Paperwork Reduction Act of 1995, 44 U.S.C. Chapter 35, as amended.

Dated: December 31, 2003.
William Russell III,
Deputy Assistant Secretary for Public Housing and Voucher Programs.

[FR Doc. 04-1101 Filed 1-16-04; 8:45 am]

BILLING CODE 4210-33-M